INTERNATIONAL TRADE COMMISSION

[USITC SE-13-009]

Government in the Sunshine Act Meeting Notice

AGENCY HOLDING THE MEETING: United States International Trade Commission.

TIME AND DATE: May 10, 2013 at 11:00 a.m.

PLACE: Room 101, 500 E Street SW., Washington, DC 20436, Telephone: (202) 205-2000.

STATUS: Open to the public.

MATTERS TO BE CONSIDERED: 1. Agendas for future meetings: none.

2. Minutes

3. Ratification List

4. Vote in Inv. No. 731-TA-1206 (Preliminary) (Diffusion-Annealed, Nickel-Plated Flat-Rolled Steel Products from Japan). The Commission is currently scheduled to transmit its determination to the Secretary of Commerce on or before May 13, 2013; Commissioners” opinions are currently scheduled to be transmitted to the Secretary of Commerce on or before May 20, 2013.

5. Outstanding action jackets: none.

In accordance with Commission policy, subject matter listed above, not disposed of at the scheduled meeting, may be carried over to the agenda of the following meeting.

Issued: May 1, 2013.
By order of the Commission.
William R. Bishop,
Supervisory Hearings and Information Officer.

[FR Doc. 2013-10648 Filed 5-1-13; 11:15 am]

BILLING CODE 7020-02-P